FEDERAL MARITIME COMMISSION

Ocean Transportation Intermediary License; Correction

In the Federal Register Notice published April 23, 2008 (73 FR 21953), the reference to Amobeige Shipping Corp. is corrected to read: “Amobelge Shipping Corp.”

Dated: May 2, 2008.
Karen V. Gregory,
Assistant Secretary.

[FR Doc. E8-10122 Filed 5-6-08; 8:45 am]

BILLING CODE 6730-01-P